NATIONAL SCIENCE FOUNDATION

Special Emphasis Panel in Electrical and Communications Systems; Notice of Meeting

In accordance with the Federal Advisory Committee Act (Pub. L. 92-463, as amended), the National Science Foundation announces the following meeting.

Name: Special Emphasis Panel in Electrical and Communications Systems (1196).

Date and Time: February 22-23, 2001; 8:30 a.m. to 5 p.m.

Place: Room II-575, Stafford II Conference Center, National Science Foundation, 4121 Wilson Blvd., Arlington, VA.

Type of Meeting: Closed.

Contact Person: Dr. Filbert Bartoli, Program Director, Room 675, Division of Electrical and Communications Systems, National Science Foundation, 4201 Wilson Blvd., Arlington, VA 22230. Telephone: (703) 292-8339.

Purpose of Meeting: To provide advice and recommendations concerning proposals submitted to NSF for financial support.

Agenda: To review and evaluate Unsolicited proposals submitted in response to the program announcement (NSF 00-2).

Reason for Closing: The proposals being reviewed include information of a proprietary or confidential nature, including technical information; financial data, such as salaries; and personal information concerning individuals associated with the proposals. These matters are exempt under 5 U.S.C. 552b(c), (4) and (6) of the Government in the Sunshine Act.

Dated: February 5, 2001.
Karen J. York,
Committee Management Officer.

[FR Doc. 01-3337 Filed 2-8-01; 8:45 am]

BILLING CODE 7555-01-M